DEPARTMENT OF LABOR

Office of the Secretary

Agency Information Collection Activities; Submission for OMB Review; Comment Request; Equal Employment Opportunity in Apprenticeship Training

ACTION: Notice of availability; request for comments.

SUMMARY: The Department of Labor (DOL) is submitting the Employment and Training Administration (ETA) sponsored information collection request (ICR) revision titled, “Equal Employment Opportunity in Apprenticeship Training,” to the Office of Management and Budget (OMB) for review and approval for use in accordance with the Paperwork Reduction Act (PRA) of 1995. Public comments on the ICR are invited.

DATES: The OMB will consider all written comments that agency receives on or before February 28, 2020.

ADDRESSES: A copy of this ICR with applicable supporting documentation; including a description of the likely respondents, proposed frequency of response, and estimated total burden may be obtained free of charge from the RegInfo.gov website at http://www.reginfo.gov/public/do/PRAViewICR?ref_nbr=201912-1205-001 (this link will only become active on the day following publication of this notice) or by contacting Frederick Licari by telephone at 202-693-8073, TTY 202-693-8064, (these are not toll-free numbers) or sending an email to DOL_PRA_PUBLIC@dol.gov.

Submit comments about this request by mail to the Office of Information and Regulatory Affairs, Attn: OMB Desk Officer for DOL-ETA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-8073, TTY 202-693-8064, (these are not toll-free numbers) or sending an email to DOL_PRA_PUBLIC@dol.gov.

SUPPLEMENTARY INFORMATION: This ICR seeks approval under the PRA for revisions to the Equal Employment Opportunity in Apprenticeship Training. Title 29 CFR part 30 sets forth policies and procedures to promote equality of opportunity in apprenticeship programs registered with the U.S. Department of Labor (the Department) and recognized State Apprenticeship Agencies. Among other things, these policies and procedures apply to the recruitment and selection of apprentices, and to the conditions of employment and training during apprenticeship. The procedures also provide for reviewing apprenticeship programs, for processing complaints, and for deregistering non-complying apprenticeship programs. The part 30 regulations also provide policies and procedures for continuation or withdrawal of recognition of State Apprenticeship Agencies (SAAs) which register apprenticeship programs for Federal purposes. This information collection is a revision, because it includes: (1) Minor edits for clarity; (2) an update to the Office of Apprenticeship's room number; (3) a correction to the number of days (i.e., 300) that a complaint must be filed as required under part 30; (4) an update to the list of bases for complaints to include disability, age (40 or older), genetic information, sex (including pregnancy and gender identity), sexual orientation, and retaliation; (5) the removal of the definitions of protected bases to be consistent with the practices of other agencies of the Department; and (6) to clarify that the non-retaliation language applies to both employers and sponsors. The annual burden for this information collection increased from 16,097 hours to 191,355 hours resulting in an increase of 175,258 hours over ETA's previous estimate, which OMB approved until January 31, 2020. Unlike ETA's previous estimate, the annual burden for this information collection is calculated for all program sponsors and not just new ones since there are ongoing burdens that all sponsors need to undertake annually.

This information collection is subject to the PRA. A Federal agency generally cannot conduct or sponsor a collection of information, and the public is generally not required to respond to an information collection, unless the OMB, under the PRA, approves it and displays a currently valid OMB Control Number. In addition, notwithstanding any other provisions of law, no person shall generally be subject to penalty for failing to comply with a collection of information that does not display a valid OMB Control Number. See 5 CFR 1320.5(a) and 1320.6. The DOL obtains OMB approval for this information collection under Control Number 1205-0224. The current approval is scheduled to expire on January 31, 2020; however, the DOL notes that existing information collection requirements submitted to the OMB will receive a month-to-month extension while they undergo review. New requirements would only take effect upon OMB approval. For additional substantive information about this ICR, see the related notice published in the Federal Register on November 21, 2019 (84 FR 64340).

Interested parties are encouraged to send comments to the OMB, Office of Information and Regulatory Affairs at the address shown in the ADDRESSES section within thirty (30) days of publication of this notice in the Federal Register. In order to help ensure appropriate consideration, comments should mention OMB Control Number 1205-0224. The OMB is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Equal Employment Opportunity in Apprenticeship Training.

OMB Control Number: 1205-0224.

Affected Public: Individuals or Households; State, Local and Tribal Governments; Federal Government; Private Sector—business or other for-profits, and not-for-profit institutions.

Total Estimated Number of Respondents: 50,139.

Total Estimated Number of Responses: 103,110.

Total Estimated Annual Time Burden: 191,355 hours.

Total Estimated Annual Other Costs Burden: $0.

Authority: 44 U.S.C. 3507(a)(1)(D).

Dated: January 23, 2020.
Frederick Licari,
Departmental Clearance Officer.

[FR Doc. 2020-01508 Filed 1-28-20; 8:45 am]

BILLING CODE 4510-FR-P